SECURITIES AND EXCHANGE COMMISSION

[File No. 500-1]

A.B. Watley Group, Inc., Cambridge Heart, Inc., iGenii Inc., and RKO Resources, Inc. (a/k/a Shamika 2 Gold, Inc.); Order of Suspension of Trading

May 5, 2015.

It appears to the Securities and Exchange Commission that there is a lack of current and accurate information concerning the securities of A.B. Watley Group, Inc. (CIK No. 1035632), a void Delaware corporation with its principal place of business listed as New York, New York, with stock quoted on OTC Link (previously, “Pink Sheets”) operated by OTC Markets Group, Inc. (“OTC Link”) under the ticker symbol ABWG, because it has not filed any periodic reports since the period ended March 31, 2005. On November 1, 2013, A.B. Watley Group received a delinquency letter sent by the Division of Corporation Finance requesting compliance with their periodic filing obligations.

It appears to the Securities and Exchange Commission that there is a lack of current and accurate information concerning the securities of Cambridge Heart, Inc. (CIK No. 913443), a void Delaware corporation with its principal place of business listed as Foxborough, Massachusetts, with stock quoted on OTC Link under the ticker symbol CAMH, because it has not filed any periodic reports since the period ended September 30, 2012. On December 22, 2014, Cambridge Heart received a delinquency letter sent by the Division of Corporation Finance requesting compliance with their periodic filing obligations.

It appears to the Securities and Exchange Commission that there is a lack of current and accurate information concerning the securities of iGenii Inc. (CIK No. 1441573), a delinquent Delaware corporation with its principal place of business listed as New York, New York, with stock quoted on OTC Link under the ticker symbol IGNI, because it has not filed any periodic reports since the period ended September 30, 2012. On May 23, 2014, iGenii received a delinquency letter sent by the Division of Corporation Finance requesting compliance with their periodic filing obligations.

It appears to the Securities and Exchange Commission that there is a lack of current and accurate information concerning the securities of RKO Resources, Inc. (a/k/a Shamika 2 Gold, Inc.) (CIK No. 1330323), a defaulted Nevada corporation with its principal place of business listed as Montreal, Quebec, Canada, with stock quoted on OTC Link under the ticker symbol SHMX, because it has not filed any periodic reports since the period ended September 30, 2012. On November 25, 2013, RKO Resources received a delinquency letter sent by the Division of Corporation Finance requesting compliance with their periodic filing obligations.

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on May 5, 2015, through 11:59 p.m. EDT on May 18, 2015.

By the Commission.
Jill M. Peterson,
Assistant Secretary.

[FR Doc. 2015-11116 Filed 5-5-15; 4:15 pm]

BILLING CODE 8011-01-P